DEPARTMENT OF THE INTERIOR

Geological Survey

National Cooperative Geologic Mapping Program (NCGMP) Advisory Committee

AGENCY: U.S. Geological Survey, Interior.

ACTION: Notice of audio conference.

SUMMARY: Pursuant to Public Law 106-148, the NCGMP Advisory Committee will hold an audio conference call on Wednesday, January 26, 2011, from 1 p.m.-3 p.m. Eastern Standard Time. The Committee will hear updates on progress of the NCGMP toward fulfilling the purposes of the National Geological Mapping Act of 1992; the Federal, State, and education components of the NCGMP; and the National Geological and Geophysical Data Preservation Program.

DATES: January 26, 2011, from 1 p.m.-3 p.m. Eastern Standard Time.

FOR FURTHER INFORMATION CONTACT: For the phone number and access code, please contact Stephanie Brown, U.S. Geological Survey, Mail Stop 908, National Center, Reston, Virginia 20192, (703) 648-6948.

SUPPLEMENTARY INFORMATION: Meetings of the National Cooperative Geologic Mapping Program Advisory Committee are open to the Public.

Dated: November 19, 2010.
Kevin T. Gallagher,
Acting Associate Director for Core Science Systems.

[FR Doc. 2010-30397 Filed 12-3-10; 8:45 am]

BILLING CODE 4311-AM-P